DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for 2020 Census Field Tests to Research the Use of Automation in Field Data Collection Activities.

OMB Control Number: None.

Form Number(s): Unknown at this time.

Type of Request: New collection.

Burden Hours: 2,167.

Number of Respondents: 13,000.

Average Hours per Response: 10 minutes.

Needs and Uses: The U.S. Census Bureau is committed to conducting a 2020 Census that costs less while maintaining high quality results. Field data collection activities are a significant cost driver in the decennial census. Field data collection activities include creating and updating address lists, updating maps, enumerating households and persons, collecting data on vacant housing units, and conducting quality control operations. In previous censuses, these activities required the use of a large temporary field staff with limited training using manual or paper forms and systems.

Advances in technology may create new opportunities to perform field data collection tasks in an automated environment. The Census Bureau plans to research and learn the use of new technologies to test their capabilities in performing data collection activities. As part of the learning process, the Census Bureau plans to conduct operations using new technologies. This research and learning are integral to the Strategic Plan for the 2020 Census.

Designing and testing innovations are part of the planning of every recent decennial census. To carry out these tests, the Census Bureau plans to conduct field activities by programming and using mobile computing devices, such as smart phones and tablets, and using multiple software operating systems. The tests will inform census planners and stakeholders on their ability to program applications on different devices. In addition, the tests will measure the accuracy, productivity, and user experience with different combinations of mobile device and applications. Tests may also provide data on the feasibility to program applications on privately owned devices. In previous censuses, the Census Bureau has purchased equipment that it issues to the temporary field staff. After the census, this equipment was disposed as excess property.

The Census Bureau plans to conduct these tests in small geographic areas involving a small number of housing units and persons over the next three years. The specific areas have not yet been determined. We will follow the protocol of past generic clearances: 14 to 30 days before the scheduled start date of each field test, we will provide OMB with a detailed background on the activity, estimates of respondent burden, and samples of pertinent forms and/or questions. We will provide OMB annually a report documenting the activities performed under this clearance at the end of each year.

The following sections describe the categories of activities to be included under the clearance. The Census Bureau has conducted these activities (or similar ones) previously and the individual respondent burden remains relatively unchanged from one time to another.

Address Listing and Mapping Tasks

The Census Bureau maintains a Master Address File (MAF) of housing units and other living quarters. Census links each MAF location to the Census Bureau mapping system called the Topologically Integrated Geographic Encoding and Referencing (TIGER) database. The MAF needs updating to account for new housing units and other living quarters. The TIGER database needs updating to account for feature changes such as new streets and street names.

The Census Bureau will update map features and address lists on mobile computing devices. During the test, it may be necessary to ask residents or other knowledgeable persons in a test area for street name and address numbers. The Census Bureau will record responses into extracts of the mapping and MAF databases that have been loaded onto the mobile computing device. The primary purpose of this activity during the test is to evaluate the performance of these tasks on a mobile computing device in a field environment. The data collected may be stored on the mobile computing device and/or other data storage system. Address data are protected information under U.S. Code Title 13, and the test will comply with the Census Bureau privacy and security requirements for collecting, transmitting, storing, and using information obtained during the test.

Enumeration Functions

During personal interviews, the decennial census asks a series of questions of a household respondent and records the answers. The enumeration functions research will focus on using various applications and mobile computing devices to enumerate households and persons. The research and evaluation may include: Developing an automated enumeration questionnaire; usability issues; conducting interviews; scheduling return visits; recording contact outcomes; recording the status of a housing unit (such as occupied or vacant); adding addresses; making work assignments; measuring production; having the ability to toggle to a Spanish instrument; enumerator routing; and transmitting data. To test enumeration functions, the Census Bureau may conduct the enumeration directly with a household member or knowledgeable respondent. The Census Bureau will provide the actual questions asked to Office of Management and Budget following established protocol.

During these tests, the Census Bureau could develop other applications on the mobile computing devices to collect information. These applications could include: allowing respondents to enter their information directly into the device; perform voice recognition commands and recordings; and to input data during a phone call.

Quality Control Functions

The quality control (QC) functions research is intended to test quality control functions and applications on different mobile computing devices for both listing and enumeration. The purposes of testing these functions are to develop requirements for the QC portion of the listing and enumeration applications in 2020. The scope of the tests may include revisiting areas and households to verify information collected in previous operations; correcting and adding map features, addresses, and households; and applying pass/fail requirements. The tests may include collecting GPS coordinates of addresses to identify and reduce incorrect geographic identifiers of addresses.

All activities described directly support the Census Bureau's efforts to maintain or improve quality while controlling costs in the 2020 Census. The information collected from households during these tests is to research new technologies to plan the 2020 Census. Information from respondents will not be used in any data products produced by the Census Bureau such as statistical measures or indicators. Responses may be used in future research studies that build upon the results of these early tests. The Census Bureau may use address and mapping information collected during these tests to update its MAF and mapping databases.

Affected Public: Individuals or households.

Frequency: One time.

Respondent's Obligation: Mandatory.

Legal Authority: U.S. Code Title 13, Sections 141 and 193.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: July 25, 2012.
Gwellnar Banks,
Management Analyst, Office of the Chief Information Officer.

[FR Doc. 2012-18452 Filed 7-27-12; 8:45 am]

BILLING CODE 3510-07-P